DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR Part 44 govern the application, processing, and disposition of petitions for modification. This Federal Register Notice (FR Notice) notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Acting Director, Office of Standards, Regulations and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2009-009-C

FR Notice: 74 FR 23746 (May 20, 2009).

Petitioner: Twentymile Coal Company, Suite 1340, 401 Liberty Avenue, Pittsburgh, Pennsylvania 15222.

Mine: Foidel Creek Mine, MSHA I.D. No. 05-03836, located in Routt County, Colorado.

Regulation Affected: 30 CFR 75.312(c) and (d) (Main mine fan examinations and records).

• Docket Number: M-2009-019-C

FR Notice: 74 FR 34371 (July 15, 2009).

Petitioner: Process Energy Mining Company, 115 North Big Creek Road, P.O. Box 299, Sidney, Kentucky 41564.

Mine: Mine No. 1, MSHA I.D. No. 15-19097, located in Pike County, Kentucky.

Regulation Affected: 30 CFR 75.380(d)(3) (Escapeways; bituminous and lignite mines).

• Docket Number: M-2009-054-C

FR Notice: 74 FR 3258 (January 20, 2010).

Petitioner: Pinnacle Mining Company, P.O. Box 338, Pineville, West Virginia 24874.

Mine: Pinnacle Mine, MSHA I.D. No. 46-01816, located in Wyoming County, West Virginia.

Regulation Affected: 30 CFR 75.507-1 (Electric equipment other than power-connection points; outby the last open crosscut; return air; permissibility requirements).

• Docket Number: M-2010-014-C

FR Notice: 75 FR 10187 (March 31, 2010).

Petitioner: Sunrise Coal, LLC, 1183, East Canvasback Drive, Terre Haute, Indiana 47802.

Mine: Carlisle Mine, MSHA I.D. No. 12-02349, located in Sullivan County, Indiana.

Regulation Affected: 30 CFR 75.1101-1(b) (Deluge-type water spray systems).

• Docket Number: M-2010-002-M

FR Notice: 75 FR 34487 (June 17, 2010).

Petitioner: Solvay Chemicals, Inc., P.O. Box 1167, 400 County Road 85, Green River, Wyoming 82935.

Mine: Solvay Chemicals, Inc., Mine, MSHA I.D. No. 48-01295, located in Sweetwater County, Wyoming.

Regulation Affected: 30 CFR 57.22305 (Approved equipment (III mines)).

• Docket Number: M-2010-004-C

FR Notice: 75 FR 12796 March 17, 2010).

Petitioner: Jim Walter Resources, Inc., P.O. Box 133, Brookwood, Alabama 35444.

Mine: No. 7 Mine, MSHA I.D. No. 01-01401, located in Tuscaloosa County, Alabama.

Regulation Affected: 30 CFR 75.507 (power connection points).

• Docket Number: M-2010-030-C

FR Notice: 75 FR 41530 (July 16, 2010).

Petitioner: Rosebud Mining Company, 301 Market Street, Kittanning, Pennsylvania 16201.

Mine: Beaver Valley Mine, MSHA I.D. No. 36-08725, located in Beaver County, Pennsylvania and Cherry Tree Mine, MSHA I.D. No. 36-09224, located in Indiana County, Pennsylvania.

Regulation Affected: 30 CFR 75.1101-1(b) (Deluge-type water spray systems).

• Docket Number: M-2009-063-C

FR Notice: 75 FR 3253 (January 20, 2010).

Petitioner: Prairie State Generating Company, LLC, 4274 County Highway 12, Marissa, Illinois 62257.

Mine: Lively Grove Mine, MSHA I.D. No. 11-03193, located in Washington County, Illinois.

Regulation Affected: 30 CFR 75.1909(b)(6) (Nonpermissible diesel-powered equipment; design and performance requirements).

• Docket Number: M-2009-001-M

FR Notice: 74 FR 23745 (May 20, 2009).

Petitioner: General Chemical (Soda Ash) Partners.

Mine: General Chemical Mine, MSHA I.D. No. 48-00155, located in Sweetwater County, Wyoming.

Regulation Affected: 30 CFR 57.22305 (Approved equipment (III mines) and 30 CFR 18.35 (Portable (trailing) cables and cords).

Dated: January 10, 2011.
Patricia W. Silvey,
Certifying Officer.

[FR Doc. 2011-686 Filed 1-13-11; 8:45 am]

BILLING CODE 4510-43-P